DEPARTMENT OF ENERGY

Federal Energy Regulatory Commission

Combined Notice of Filings #2

Take notice that the Commission received the following electric corporate filings:

Docket Numbers: EC15-25-000.

Applicants: Constellation Power Source Generation, LLC, Exelon Generation Company, LLC, Chief Keystone Power, LLC, Chief Conemaugh Power, LLC.

Description: Joint Application for Authorization for Disposition and Consolidation of Jurisdictional Facilities and Acquisition of Existing Generation Facilities and Request for Expedited Action of Constellation Power Source Generation, LLC, et. al.

Filed Date: 11/6/14.

Accession Number: 20141106-5079.

Comments Due: 5 p.m. ET 11/28/14.

Docket Numbers: EC15-26-000.

Applicants: Freeport-McMoRan Copper & Gold Energy Services, LLC, Samchully Power & Utilities 1 LLC.

Description: Joint Application for Authorization for Disposition of Jurisdictional Facilities and Request for Expedited Action and Abbreviated Comment Period of Freeport-McMoRan Copper & Gold Energy Services, LLC, et. al.

Filed Date: 11/6/14.

Accession Number: 20141106-5116.

Comments Due: 5 p.m. ET 11/28/14.

Take notice that the Commission received the following electric rate filings:

Docket Numbers: ER15-353-000.

Applicants: PacifiCorp.

Description: Notices of Cancellation and Termination for inactive and or expired service agreements of PacifiCorp under ER15-353.

Filed Date: 11/6/14.

Accession Number: 20141106-5067.

Comments Due: 5 p.m. ET 11/28/14.

Docket Numbers: ER15-354-000.

Applicants: PacifiCorp.

Description: § 205(d) rate filing per 35.13(a)(2)(iii): BPA General Transfer Agreement (West) Rev 4 to be effective 1/6/2015.

Filed Date: 11/6/14.

Accession Number: 20141106-5068.

Comments Due: 5 p.m. ET 11/28/14.

Docket Numbers: ER15-355-000.

Applicants: Chevron U.S.A. Inc.

Description: Initial rate filing per 35.12 Baseline new to be effective 11/7/2014.

Filed Date: 11/6/14.

Accession Number: 20141106-5072.

Comments Due: 5 p.m. ET 11/28/14.

Docket Numbers: ER15-356-000.

Applicants: Chief Conemaugh Power, LLC.

Description: Baseline eTariff Filing per 35.1: MBR Application to be effective 12/22/2014.

Filed Date: 11/6/14.

Accession Number: 20141106-5097.

Comments Due: 5 p.m. ET 11/28/14.

Docket Numbers: ER15-357-000.

Applicants: Chief Keystone Power, LLC.

Description: Baseline eTariff Filing per 35.1: MBR Application to be effective 12/22/2014.

Filed Date: 11/6/14.

Accession Number: 20141106-5098.

Comments Due: 5 p.m. ET 11/28/14.

Docket Numbers: ER15-358-000.

Applicants: Midcontinent Independent System Operator, Inc.

Description: § 205(d) rate filing per 35.13(a)(2)(iii): 2014-11-06_RTO Adder Filing to be effective 11/7/2014.

Filed Date: 11/6/14.

Accession Number: 20141106-5108.

Comments Due: 5 p.m. ET 11/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2014.
Nathaniel J. Davis, Sr.,
Deputy Secretary.

[FR Doc. 2014-27092 Filed 11-14-14; 8:45 am]

BILLING CODE 6717-01-P